OCCUPATIONAL SAFETY AND HEALTH REVIEW COMMISSION

Agency Information Collection Activities: Proposed Collection; Comment Request; Evaluation of the “E-Z Trial”

ACTION: Notice.

SUMMARY: As part of its effort to reduce paperwork and the burden placed on survey recipients, the Occupational Safety and Health Review Commission (OSHRC) is conducting a preclearance consultation to provide the general public and Federal agencies with an opportunity to comment on a proposed collection of information in accordance with the Paperwork Reduction Act of 1965, Public Law 104-13. OSHRC is soliciting comment concerning an information collection required to evaluate the Review Commission's “E-Z-Trial” program.

DATES: Written comments must be submitted by July 28, 2000.

ADDRESSES: Comments are to be submitted to Ledia Esther Bernal, OSHRC Clearance Officer, Occupational Safety and Health Review Commission, 1120 20th Street, N.W., Ninth Floor, Washington, DC 20036-3419. They may also be sent by facsimile to (202) 606-5390.

FOR FURTHER INFORMATION CONTACT: Copies of the information collection are available for inspection at the address above. They will be mailed to persons who request copies by telephoning Ledia Esther Bernal at (202) 606-5390.

SUPPLEMENTARY INFORMATION:

I. Background

The Occupational Safety and Health Review Commission (OSHRC) published a rule in the Federal Register dated August 14, 1995 establishing the “E-Z Trial” program. The rule was subsequently amended to eliminate the sunset provisions in the original rule and to revise the procedural rules governing the “E-Z Trial” program effective July 31, 1997. We are evaluating the program as modified effective July 31, 1997. The evaluation will involve surveying employers and employer representatives regarding their satisfaction with the fairness and efficiency of the process. The evaluation will also analyze data on the rate at which “E-Z Trial” cases go to a hearing, and on the length and cost of hearings. Finally, the evaluation will study the cycle times of these cases as compared to those of conventional cases. Information will also be gathered from Occupational Safety and Health Administration (OSHA) staff and from the Solicitor of Labor.

II. Current Action

This notice requests comment on the proposed instruments to be used in connection with the evaluation.

Type of Review: Regular Submission (new).

Title: Evaluation of “E-Z Trial.

OMB Number: New.

Affected Public: Employers and/or their representatives, labor organizations and staff of the Office of the Solicitor of Labor who have been involved in cases with the Review Commission.

Frequency: Once.

Total Respondents: 100.

Average Time per Response: 45 minutes.

Estimated Total Reporting burden: 75 hours.

Total Annualized capital/startup costs: 0.

Total Operation and Maintenance costs: 0.

Comments submitted in response to this notice will be summarized and included in the request for Office of Management and Budget approval of the information collection request. Comments will become a matter of public record.

Patricia A. Randle,
Executive Director.

[FR Doc. 00-13558 Filed 5-30-00; 8:45 am]

BILLING CODE 7600-01-U